DEPARTMENT OF AGRICULTURE

Forest Service

Siskiyou County Resource Advisory Committee

AGENCY: Forest Service, USDA.

ACTION: Notice of meeting.

SUMMARY: The Siskiyou County Resource Advisory Committee will meet in Yreka, California, December 13, 2004. The meeting will include routine business, presentations of larger scale project concept papers, and the review and recommendation for implementation of submitted project proposals.

DATES: The meeting will be held December 13, 2004, from 4:30 p.m. until 7 p.m.

ADDRESSES: The meeting will be held at the Yreka High School Library, Preece Way, Yreka, California.

FOR FURTHER INFORMATION CONTACT: Don Hall, RAC Coordinator, Klamath National Forest, (530) 841-4468 or electronically at donaldhall@fs.fed.us.

SUPPLEMENTARY INFORMATION: The meeting is open to the public. Public comment opportunity will be provided and individuals will have the opportunity to address the Committee at that time.

Dated: November 19, 2004.
Margaret J. Boland,
Designated Federal Official.

[FR Doc. 04-26180 Filed 11-24-04; 8:45 am]

BILLING CODE 3410-11-M